DEPARTMENT OF ENERGY

Federal Energy Regulatory Commission

[Docket No. Cp16-498-000; Pf16-4-000]

Columbia Gas Transmission, LLC; Notice of Schedule for Environmental Review of the B-System Project

On September 9, 2016, Columbia Gas Transmission, LLC (Columbia) filed an application in Docket No. CP16-498-000 requesting a Certificate of Public Convenience and Necessity pursuant to Sections 7(b) and 7(c) of the Natural Gas Act to abandon, construct, and operate certain natural gas pipeline facilities. The proposed project is known as the B-System Project (Project), and would modernize and upgrade Columbia's B-System pipelines by replacing and abandoning old pipeline as well as constructing new pipeline and appurtenant facilities in Fairfield and Franklin Counties, Ohio.

On September 21, 2016, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—March 13, 2017

90-day Federal Authorization Decision Deadline—June 11, 2017

If a schedule change becomes necessary, additional notice will be provided so that the relevant agencies are kept informed of the Project's progress.

Project Description

Columbia would abandon in place approximately 17.5 miles of its Line B-105; replace 14.0 miles of its Line B-111; replace 0.1 mile of its Line B-121; replace 0.5 mile of its Line B-130; construct 7.6 miles of new pipeline Line K-270 and appurtenant facilities; and modify various point of delivery and point of receipt customer interconnects in Fairfield and Franklin Counties, Ohio.

Background

On May 6, 2016, the Commission issued a Notice of Intent to Prepare an Environmental Assessment for the Proposed B-System Project and Request for Comments on Environmental Issues (NOI). The NOI was issued during the pre-filing review of the Project in Docket No. PF16-4-000 and was sent to affected landowners; federal, state, and local government agencies; elected officials; environmental and public interest groups; Native American tribes; other interested parties; and local libraries and newspapers. In response to the NOI, the Commission received comments from one U.S. representative, three Ohio state representatives, the U.S. Fish and Wildlife Service, the Miami Tribe of Oklahoma, the Ohio Department of Natural Resources, Columbia Gas of Ohio, Inc., and four landowners. The primary issues raised by the commentors are pipeline route alternatives, pollinator habitat, endangered species, migratory birds, and methods of pipe abandonment.

The Ohio Department of Natural Resources is a cooperating agency in the preparation of the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the “eLibrary” link, select “General Search” from the eLibrary menu, enter the selected date range and “Docket Number” excluding the last three digits (i.e., CP16-498), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: December 20, 2016.
Kimberly D. Bose,
Secretary.

[FR Doc. 2016-31094 Filed 12-23-16; 8:45 am]

BILLING CODE 6717-01-P